DEPARTMENT OF JUSTICE

Antitrust Division

Notice Pursuant to the National Cooperative Research and Production Act of 1993—AI Infrastructure Alliance, Inc.

Notice is hereby given that, on January 5, 2022, pursuant to Section 6(a) of the National Cooperative Research and Production Act of 1993, 15 U.S.C. 4301 et seq. (“the Act”), AI Infrastructure Alliance, Inc. (“AIIA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: DataTalks.Club, Berlin, GERMANY; Allegro Systems Ltd., Tel-Aviv, ISRAEL; Neuro Inc., San Francisco, CA; Pachyderm, Inc., San Francisco, CA; Arize AI, Mill Valley, CA.; TerminusDB, Dublin, IRELAND; Data Science Salon, Miami, FL; MLOps Community, Flagstaff, AZ; Molecula, Austin, TX; Activeloop, Mountain View, CA; Superwise AI LTD, Tel Aviv, ISRAEL; Artefact, Paris, FRANCE; and LGN Innovations Inc., St. Asaph, IRELAND. The general area of AIIA's planned activity is to support and promote the development of standards in the fields of artificial intelligence and machine learning.

Suzanne Morris,
Chief, Premerger and Division Statistics, Antitrust Division.

[FR Doc. 2022-05081 Filed 3-9-22; 8:45 am]

BILLING CODE 4410-11-P